INTERNATIONAL TRADE COMMISSION

[Investigation No. 337-TA-1061]

Certain Bar Code Readers, Scan Engines, Products Containing the Same, and Components Thereof; Commission Decision Not To Review an Initial Determination Granting an Amended Joint Motion To Terminate the Investigation Based on a License and Settlement Agreement; Termination of the Investigation

AGENCY: U.S. International Trade Commission.

ACTION: Notice.

SUMMARY: Notice is hereby given that the U.S. International Trade Commission has determined not to review an initial determination (“ID”) (Order No. 22) of the presiding administrative law judge (“ALJ”) granting an amended joint motion to terminate the investigation based on a license and settlement agreement. The investigation is terminated.

FOR FURTHER INFORMATION CONTACT: Houda Morad, Office of the General Counsel, U.S. International Trade Commission, 500 E Street SW, Washington, DC 20436, telephone (202) 708-4716. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on June 27, 2017, based on a complaint filed by Honeywell International, Inc. of Morris Plains, New Jersey; Hand Held Products, Inc. d/b/a Honeywell Scanning & Mobility of Fort Mill, South Carolina; Metrologic Instruments, Inc. d/b/a Honeywell Scanning & Mobility of Fort Mill, South Carolina (collectively, “Complainants” or “Honeywell”). See 82 FR 29095-96 (June 27, 2017). The complaint alleges violations of section 337 of the Tariff Act of 1930, as amended (19 U.S.C. 1337), based upon the importation into the United States, the sale for importation, and the sale within the United States after importation of certain bar code readers, scan engines, products containing the same, and components thereof by reason of infringement of certain claims of U.S. Patent No. 6,832,725; U.S. Patent No. 8,511,572; U.S. Patent No. 7,148,923; U.S. Patent No. 7,527,206; U.S. Patent No. 8,646,692; and U.S. Patent No. 9,323,969. See id. The notice of investigation names The Code Corporation (“Code”) of Draper, Utah and Cortex Pte Ltd. (“Cortex”) of Singapore as respondents in this investigation. See id. The Office of Unfair Import Investigations is not a party to this investigation. See id.

On December 8, 2017, the ALJ issued an initial determination partially terminating the investigation as to Cortex as a respondent. See Order No. 12, unreviewed, Comm'n Notice (Jan. 8, 2018).

On February 21, 2018, Honeywell and Code filed an amended joint motion to terminate the investigation based on a license and settlement agreement (Motion). On the same day, the ALJ issued the subject ID (Order No. 22) granting the Motion and terminating the investigation. The ID finds that: “[t]he [Motion] complies with the Commission Rules . . . .” See ID at 1. In particular, the ID notes that “[p]ursuant to Commission Rule 210.21(b)(1)[, 19 CFR 210.21(b)(1)], the movants state: `There are no other agreements, written or oral, express or implied, between Honeywell and Code regarding the subject matter of this proceeding.' ” See ID at 1 (citing Motion at 2). In addition, the ID “does not find any evidence” indicating that terminating the investigation would be “contrary” to the public interest. See ID at 2 (citing Motion at 2; 19 CFR 210.50(b)(2)). No petition for review of the ID was filed.

The Commission has determined not to review the subject ID. The investigation is terminated.

The authority for the Commission's determination is contained in section 337 of the Tariff Act of 1930, as amended (19 U.S.C. 1337), and in part 210 of the Commission's Rules of Practice and Procedure (19 CFR part 210).

By order of the Commission.
Issued: March 22, 2018.
Lisa R. Barton,
Secretary to the Commission.

[FR Doc. 2018-06142 Filed 3-27-18; 8:45 am]

BILLING CODE 7020-02-P